FEDERAL COMMUNICATIONS COMMISSION

Notice of Public Information Collection(s) Being Reviewed by the Federal Communications Commission for Extension Under Delegated Authority

December 2, 2004.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

Dates: Written Paperwork Reduction (PRA) comments should be submitted on or before February 7, 2005. If you anticipate that you will be submitting comments, but find it difficult to do so within the period of time allowed by this notice, you should advise the contact listed below as soon as possible.

Addresses: Direct all Paperwork Reduction Act (PRA) comments to Cathy Williams, Federal Communications Commission, Room 1-C823, 445 12th Street, SW., Washington, DC 20554 or via the Internet to Cathy.Williams@fcc.gov.

For Further Information Contact: For additional information or copies of the information collection(s), contact Cathy Williams at (202) 418-2918 or via the Internet at Cathy.Williams@fcc.gov.

Supplementary Information: OMB Control Number: 3060-0649.

Title: 47 CFR Section 76.1601, Deletion or Repositions of Broadcast Signals; 47 CFR Section 76.1617, Initial Must Carry Notice; 47 CFR Sections 76.1607 and 76.1708, Principal Headend.

Form Number: Not applicable.

Type of Review: Extension of a currently approved collection.

Respondents: Business or other for-profit entities; not-for-profit institutions.

Number of Respondents: 8,250.

Estimated Time per Response: 0.5 to 1 hour.

Frequency of Response: On occasion reporting requirement.

Total Annual Burden: 2,200 hours.

Total Annual Cost: None.

Privacy Impact Assessment: No impact(s).

Needs and Uses: 47 CFR § 76.1601 requires that effective April 2, 1993, a cable operator shall provide written notice to any broadcast television station at least 30 days prior to either deleting from carriage or repositioning that station. Such notification shall also be provided to subscribers of the cable system. 47 CFR 1617(a) states that within 60 days of activation of a cable system, a cable operator must notify all qualified NCE stations of its principal headend by certified mail. 47 CFR 76.1607 states that cable operators shall provide written notice by certified mail to all stations carried on its system pursuant to the must-carry rules at least 60 days prior to any changes in the designation of its principal headend. 47 CFR 1708(a) states that the operator of every cable television system shall maintain for public inspection the designation and location of its principal headend. If an operator changes the designation of its principal headend, that new designation must be included in its public file.

Federal Communications Commission.
William F. Caton,
Deputy Secretary.

[FR Doc. 04-27054 Filed 12-8-04; 8:45 am]

BILLING CODE 6712-01-P